DEPARTMENT OF LABOR

Mine Safety and Health Administration

[OMB Control No. 1219-0088]

Proposed Extension of Information Collection; Ventilation Plans, Tests, and Examinations in Underground Coal Mines

AGENCY: Mine Safety and Health Administration, Labor.

ACTION: Request for public comments.

SUMMARY: The Department of Labor (DOL), as part of its continuing effort to reduce paperwork and respondent burden, conducts a pre-clearance consultation program to provide the general public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection entitled Ventilation Plans, Tests, and Examinations in Underground Coal Mines.

DATES: All comments must be received on or before December 9, 2024.

ADDRESSES: Comments concerning the information collection requirements of this notice may be sent by any of the methods listed below. Please note that late comments received after the deadline will not be considered.

• Federal E-Rulemaking Portal: https://www.regulations.gov. Follow the on-line instructions for submitting comments for docket number MSHA-2024-0022.

• Mail/Hand Delivery: DOL-MSHA, Office of Standards, Regulations, and Variances, 201 12th Street South, 4th Floor West, Arlington, VA 22202-5452. Before visiting MSHA in person, call 202-693-9455 to make an appointment.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act) as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal, and nonmetal mines.

B. Information Collection

In order to fulfill the statutory mandates to promote miners' health and safety, MSHA requires the collection of information under the information collection request entitled Ventilation Plans, Tests, and Examinations in Underground Coal Mines. The information collection is intended to ensure that required ventilation-related tests and examinations are made and that ventilation systems in underground coal mines are maintained.

Section 303(a) of the Mine Act, 30 U.S.C. 863(a), requires that all underground coal mines be ventilated by mechanical ventilation equipment installed and operated in a manner approved by an authorized representative of the Secretary and that such equipment be examined daily, and a record be kept of such examination.

Underground coal mines present potentially harsh and hostile working environments. The mine ventilation system is the most vital life support system in underground mining and a properly operating ventilation system is essential for maintaining a safe and healthy working environment. Lack of adequate ventilation in underground mines can result in fatalities from asphyxiation and explosions.

An underground mine is a series of tunnels that must be adequately ventilated with fresh air to provide a safe environment for miners. Methane, and other noxious gases and dusts are liberated from the strata during blasting, operating diesel equipment, and from other mining activities. The explosive and noxious gases and dusts must be diluted, rendered harmless, and carried to the surface by the ventilating currents. Sufficient air must be provided to maintain the level of respirable dust at or below specific exposure limits and air quality must be maintained in accordance with MSHA standards. Mechanical ventilation equipment of sufficient capacity must be operating at all times while miners are in the mine. Additionally, ground conditions are subject to frequent changes; thus, frequent tests and examinations are necessary to ensure the integrity of the ventilation system and to detect any changes that may require adjustments to the system.

Records of tests and examinations are necessary to ensure that the ventilation system is being maintained and changes that could adversely affect the integrity of the ventilation system or the safety of the miners are not occurring. These examination, reporting, and recordkeeping requirements found in 30 CFR 75.310, 75.312, 75.342, 75.351, 75.360 through 75.364, 75.370, 75.371, and 75.382 incorporate examinations of other critical aspects of the underground coal mine work environment such as roof conditions and electrical equipment, that have historically caused numerous fatalities when not properly maintained and operated.

1. Installation of Main Mine Fans (30 CFR 75.310)

Maintaining proper ventilation is essential to miner safety. To ensure that ventilation systems are functioning properly, MSHA requires that main mine fan monitoring system records be continuously collected and reviewed on the surface by a responsible person designated by the operator with adequate communication channels, under 30 CFR 75.310(a)(4) and (c).

Under 30 CFR 75.310(a)(4), mine operators are required to equip each main mine fan with a pressure recording device or system. If a device or system other than a circular pressure recorder is used to monitor main mine fan pressure, the device or system used must provide a continuous graph or continuous chart of the pressure as a function of time. At not more than 7-day intervals, a hard copy of the continuous graph or chart must be generated, or the record of the fan pressure must be stored electronically. When records of fan pressure are stored electronically, the system used to store these records must be secure, not susceptible to alteration, and be capable of storing the required data. Records of the fan pressure must be retained at a surface location at the mine for at least 1 year and be made available for inspection by authorized representatives of the Secretary and the representative of miners.

Under 30 CFR 75.310(c), if a main mine fan monitoring system is used under section 75.312, the system must:

(1) record the mine ventilating pressure;

(2) monitor bearing temperature, revolutions per minute, vibration, electric voltage, and amperage;

(3) provide a printout of the monitored parameters, including the mine ventilating pressure within a reasonable period, not to exceed the end of the next scheduled shift during which miners are underground; and

(4) be equipped with an automatic device that signals when an electrical or mechanical deficiency exists in the monitoring system or a sudden increase or loss in mine ventilating pressure occurs.

Under 30 CFR 75.310(c)(5), the main mine fan monitoring system must provide monitoring, records, printouts, and signals required by paragraphs (c)(1) through (c)(4) at a surface location at the mine where a responsible person designated by the operator is always on duty and where signals from the monitoring system can be seen or heard while anyone is underground. This person must be provided with two-way communication with the working sections and workstations where persons are routinely assigned to work for the majority of a shift.

2. Main Mine Fan Examinations and Records (30 CFR 75.312)

Main mine fans are used in all underground coal mines and can move large volumes of air through mines to expel methane and other noxious gases. These mine fan systems are integral to maintaining air quality to ensure miners' health and safety.

2-1. Main Mine Fan Daily Examinations and Records (30 CFR 75.312(a) and (g)(1))

To ensure that main mine fans are functioning properly, each main mine fan and its components must be examined each day that the mine is operational, and the records must be documented.

Under 30 CFR 75.312(a), to assure their electrical and mechanical reliability, each main mine fan and its associated components, including devices for measuring or recording mine ventilation pressure, must be examined for proper operation by a trained person designated by the operator. Examinations of main mine fans must be made at least once each day that the fan operates, unless a fan monitoring system is used. No examination is required on any day when no one, including certified persons, goes underground, except that an examination must be completed prior to anyone entering the mine.

Under 30 CFR 75.312(g)(1), by the end of the shift on which the examination is made, persons making main mine fan examinations must record all uncorrected defects that may affect the operation of the fan that are not corrected by the end of that shift. Records must be maintained in a secure book that is not susceptible to alteration or electronically in a computer system so as to be secure and not susceptible to alteration.

2-2. Main Mine Fan at Use Examination and Records (30 CFR 75.312(b) and (g)(2))

Regular review of the fan monitoring system data is important to miner health and safety so that any issues can be averted in a timely manner. A trained individual must review data on the main mine fan monitoring system daily, examine each main mine fan every 7 days, create certified copies of the data, and make records of any malfunction that occurs. These are required under 30 CFR 75.312(b) and (g)(2).

Under 30 CFR 75.312(b)(1)(i), if a main mine fan monitoring system is used, a trained person designated by the operator must at least once each day review the data provided by the fan monitoring system to assure that the fan and the fan monitoring system are operating properly. No review is required on any day when no one, including certified persons, goes underground, except that a review of the data must be performed prior to anyone entering the underground portion of the mine. Data reviewed must include the fan pressure, bearing temperature, revolutions per minute, vibration, electric voltage, and amperage.

Under 30 CFR 75.312(b)(1)(ii), a trained person must at least every 7 days test the monitoring system for proper operation and examine each main mine fan and its associated components to assure electrical and mechanical reliability of main mine fans. Under 30 CFR 75.312(b)(2), if the monitoring system malfunctions, the malfunction must be corrected, or examined by a trained person as defined in 75.312(a).

Under 30 CFR 75.312(g)(2)(i), when a fan monitoring system is used in lieu of the daily fan examination, the certified copies of data produced by fan monitoring systems must be maintained separate from other computer-generated reports or data. Under 30 CFR 75.312(g)(2)(ii) a record must be made of any fan monitoring system malfunctions, electrical or mechanical deficiencies in the monitoring system and any sudden increase or loss in mine ventilating pressure. The record must be made by the end of the shift on which the review of the data is completed and must be maintained in a secure book that is not susceptible to alteration or electronically in a computer system so as to be secure and not susceptible to alteration.

2-3. Main Mine Fan Monthly Examination and Records (30 CFR 75.312(c), (d) and (g)(3))

To ensure that the automatic fan signal device and automatic doors on each main mine fan are working, mine operators must test these systems monthly by those qualified to do so. This testing is required under 30 CFR 75.312(c) and (d), and the record of that test is required under 30 CFR 75.312(g)(3).

Under 30 CFR 75.312(c) and (d), at least every 31 days, the automatic fan signal device for each main mine fan and automatic closing doors in multiple main mine fan systems must be tested by stopping the fan. Only persons necessary to evaluate the effect of the fan stoppage or restart, or to perform maintenance or repair work that cannot otherwise be made while the fan is operating, is permitted underground. Notwithstanding the provisions of section 75.311, underground power may remain energized during this test provided no one is underground. If the fan is not restarted within 15 minutes, underground power must be deenergized and no one is allowed to enter any underground area of the mine until the fan is restarted and an examination of the mine is conducted as described in paragraphs 75.360 (b) through (e) and the mine has been determined to be safe.

Under 30 CFR 75.312(g)(3), by the end of the shift on which the monthly test of the automatic fan signal device or the automatic closing doors is completed, persons making these tests must record the results of the tests. Records must be maintained in a secure book that is not susceptible to alteration or electronically in a computer system so as to be secure and not susceptible to alteration.

2-4. Certification (30 CFR 75.312(f)(1) and (f)(2))

Documentation of main mine fan examinations must be kept under 30 CFR 75.312(f)(1) along with documentation of the data review from the main mine fan monitoring system under 30 CFR.312(f)(2).

Under 30 CFR 75.312(f)(1), persons making main mine fan examinations must certify by initials and date at the fan or another location specified by the operator that the examinations were made. Each certification must identify the main mine fan examined.

Under 30 CFR 75.312(f)(2), persons reviewing data produced by a main mine fan monitoring system must certify by initials and date on a printed copy of the data from the system that the review was completed. In lieu of certification on a copy of the data, the person reviewing the data may certify electronically that the review was completed. Electronic certification must be by handwritten initials and date in a computer system so as to be secure and not susceptible to alteration.

2-5. Retention Periods (30 CFR 75.312(h))

Mine records must be retained for 1 year so that issues can be properly investigated if needed. Under 30 CFR 75.312(h), records, including records of mine fan pressure and the certified copies of data produced by fan monitoring systems, must be retained at a surface location at the mine for at least 1 year and must be made available for inspection by authorized representatives of the Secretary and the representative of miners.

3. Methane Monitors (30 CFR 75.342(a))

Methane monitors are an important warning system throughout mines and must be installed and maintained in order to ensure miner safety.

Under 30 CFR 75.342(a)(1), MSHA approved methane monitors must be installed on all face cutting machines, continuous miners, longwall face equipment, loading machines, and other mechanized equipment used to extract or load coal within the working place.

Under 30 CFR 75.342(a)(4), methane monitors must be maintained in permissible and proper operating condition and must be calibrated with a known air-methane mixture at least once every 31 days. To assure that methane monitors are properly maintained and calibrated, the operator must:

(i) Use persons properly trained in the maintenance, calibration, and permissibility of methane monitors to calibrate and maintain the devices.

(ii) Maintain a record of all calibration tests of methane monitors. Records must be maintained in a secure book that is not susceptible to alteration or electronically in a computer system so as to be secure and not susceptible to alteration.

(iii) Retain the record of calibration tests for 1 year from the date of the test. Records must be retained at a surface location at the mine and made available for inspection by authorized representatives of the Secretary and the representative of miners.

4. Atmospheric Monitoring Systems (30 CFR 75.351)

Regular documentation of the atmospheric monitoring system is necessary due to the importance of the Atmospheric Monitoring System (AMS) to miner safety and health. Regular maintenance and any signals or malfunctions must be recorded, and operators must be trained on an annual basis.

Under 30 CFR 75.351(o)(1), when an AMS is used to comply with 30 CFR 75.323(d)(1)(ii), 75.340(a)(1)(ii), 75.340(a)(2)(ii), 75.350(b), 75.350(d), or 75.362(f), individuals designated by the mine operator must make the following records by the end of the shift in which the following event(s) occur:

(i) If an alert or alarm signal occurs, a record of the date, time, location and type of sensor, and the cause for the activation.

(ii) If an AMS malfunctions, a record of the date, the extent and cause of the malfunction, and the corrective action taken to return the system to proper operation.

(iii) A record of the seven-day tests of alert and alarm signals; calibrations; and maintenance of the AMS must be made by the person(s) performing these actions.

Under 30 CFR 75.351(o)(2), the person entering the record must include their name, date, and signature in the record. Under 30 CFR 75.351(o)(3), the records required by this section must be kept either in a secure book that is not susceptible to alteration, or electronically in a computer system that is secure and not susceptible to alteration. These records must be maintained separately from other records and identifiable by a title, such as the `AMS log.'

Under 30 CFR 75.351(p), records must be retained for at least 1 year at a surface location at the mine and made available for inspection by miners and authorized representatives of the Secretary.

Under 30 CFR 75.351(q)(1), all AMS operators must be trained annually in the proper operation of the AMS, conducted as part of a miner's part 48 new miner training (30 CFR 48.5), experienced miner training (30 CFR 48.6), or annual refresher training (30 CFR 48.8). Recordkeeping requirements related to training records requirements are covered in two currently approved ICRs under:

• OMB Control Number 1219-0009, Certificate of Training, which covers miners working in underground mines (30 CFR part 48 Subpart A) and surface mines and surface areas of underground mines (30 CFR part 48 Subpart B).

• OMB Control Number 1219-0131, Training Plans, New Miner Training, Newly-hired Experienced Miner Training, which covers miners engaged in shell dredging or employed at sand, gravel, surface stone, surface clay, colloidal phosphate, or surface limestone mines (30 CFR part 46).

5. Preshift Examinations at Fixed Intervals (30 CFR 75.360)

Examining the work area where miners will work or travel underground is imperative to establishing a safe work environment. In most cases, a work area must be examined by a certified person within 3 hours of the start of a shift, though there are exceptions. Documentation of hazardous conditions and any violations must be documented before any non-certified individuals enter the underground area.

Under 30 CFR 75.360(a)(1), except as provided in paragraph (a)(2) of this section, a certified person designated by the operator must make a preshift examination within 3 hours preceding the beginning of any 8-hour interval during which any person is scheduled to work or travel underground. No person other than certified examiners may enter or remain in any underground area unless a preshift examination has been completed for the established 8-hour interval. The operator must establish 8-hour intervals of time subject to the required preshift examinations.

Under 30 CFR 75.360(a)(2), preshift examinations of areas where pumpers are scheduled to work or travel are not required prior to the pumper entering the areas if the pumper is a certified person and the pumper conducts an examination for hazardous conditions and violations of the mandatory health or safety standards referenced in paragraph (b)(11) of this section, tests for methane and oxygen deficiency, and determines if the air is moving in its proper direction in the area where the pumper works or travels. The examination of the area must be completed before the pumper performs any other work. A record of all hazardous conditions and violations of the mandatory health or safety standards found by the pumper must be made and retained in accordance with 30 CFR 75.363.

Under 30 CFR 75.360(b), the person conducting the preshift examination must examine for hazardous conditions and violations of the mandatory health or safety standards referenced in paragraph (b)(11) of this section, test for methane and oxygen deficiency, and determine if the air is moving in its proper direction at the locations described in sections 30 CFR 75.360(b)(1) through (10).

Under 30 CFR 75.360(f), at each working place examined, the person doing the preshift examination must certify by initials, date, and the time, that the examination was made. In areas required to be examined outby a working section, the certified person must certify by initials, date, and the time at enough locations to show that the entire area has been examined.

Under 30 CFR 75.360(g), a record of the results of each preshift examination, including a record of hazardous conditions and violations of the nine mandatory health or safety standards and their locations found by the examiner during each examination, and of the results and locations of air and methane measurements, must be made on the surface before any persons, other than certified persons conducting examinations required by this subpart, enter any underground area of the mine. The results of methane tests must be recorded as the percentage of methane measured by the examiner. The record must be made by the certified person who made the examination or by a person designated by the operator. If the record is made by someone other than the examiner, the examiner must verify the record by initials and date by or at the end of the shift for which the examination was made. A record must also be made by a certified person of the action taken to correct hazardous conditions and violations of mandatory health or safety standards found during the preshift examination. All preshift and corrective action records must be countersigned by the mine foreman or equivalent mine official by the end of the mine foreman's or equivalent mine official's next regularly scheduled working shift. The records required by this section must be made in a secure book that is not susceptible to alteration or electronically in a computer system so as to be secure and not susceptible to alteration.

Under 30 CFR 75.360(h), these records must be retained at a surface location at the mine for at least 1 year and be made available for inspection by authorized representatives of the Secretary and the representative of miners.

6. On-Shift Examinations (30 CFR 75.362)

During periods of multiple shifts, several examinations must take place between shifts or shortly after a shift change. Examinations for respirable dust controls, hazardous conditions and violations of mandatory health or safety standards, methane and oxygen deficiency, and proper air movement must take place and be certified and countersigned by the mine foreman.

6-1. On-Shift Examinations for Hazardous Conditions (30 CFR 75.362(a)(1))

Under 30 CFR 75.362(a)(1), at least once during each shift, or more often if necessary for safety, a certified person designated by the operator must conduct an on-shift examination of each section where anyone is assigned to work during the shift and any area where mechanized mining equipment is being installed or removed during the shift. The certified person must check for hazardous conditions and violations of the mandatory health or safety standards referenced in paragraph (a)(3) of this section, test for methane and oxygen deficiency, and determine if the air is moving in its proper direction.

6-2. On-Shift Examinations for Respirable Dust (30 CFR 75.362(a)(2))

Under 30 CFR 75.362(a)(2), a person designated by the operator must conduct an examination and record the results and the corrective actions taken to assure compliance with the respirable dust control parameters specified in the approved mine ventilation plan. In those instances when a shift change is accomplished without an interruption in production on a section, the examination must be made anytime within 1 hour after the shift change. In those instances when there is an interruption in production during the shift change, the examination must be made before production begins on a section. Deficiencies in dust controls must be corrected before production begins or resumes. The examination must include: Air quantities and velocities; water pressures and flow rates; excessive leakage in the water delivery system; water spray numbers and orientations; section ventilation and control device placement; roof bolting machine dust collector vacuum levels; scrubber air flow rate; work practices required by the ventilation plan; and any other dust suppression measures. Measurements of the air velocity and quantity, water pressure and flow rates are not required if continuous monitoring of these controls is used and indicates that the dust controls are functioning properly.

6-3. Certification (30 CFR 75.362(g))

Documentation of on-shift examinations in belt haulage entries must be made and retained under 30 CFR 75.362(g).

Under 30 CFR 75.362(g)(1), the person conducting the on-shift examination in belt haulage entries must certify by initials, date, and time that the examination was made. The certified person must certify by initials, date, and the time at enough locations to show that the entire area has been examined.

Under 30 CFR 75.362(g)(2), the certified person directing the on-shift examination to assure compliance with the respirable dust control parameters specified in the approved mine ventilation plan must:

(i) Certify by initials, date, and time on a board maintained at the section load-out or similar location showing that the examination was made prior to resuming production; and

(ii) Verify, by initials and date, the record of the results of the examination required under (a)(2) of this section to assure compliance with the respirable dust control parameters specified in the mine ventilation plan. The verification must be made no later than the end of the shift for which the examination was made.

Under 30 CFR 75.362(g)(3), the mine foreman or equivalent mine official must countersign each examination record required under (a)(2) of this section after it is verified by the certified person under (g)(2)(ii) of this section, and no later than the end of the mine foreman's or equivalent mine official's next regularly scheduled working shift. The record must be made in a secure book that is not susceptible to alteration or electronically in a computer system so as to be secure and not susceptible to alteration.

Under 30 CFR 75.362(g)(4), records must be retained at a surface location at the mine for at least 1 year and must be made available for inspection by authorized representatives of the Secretary and the representative of miners.

7. Supplemental Examinations for Hazardous Conditions and Violations of Mandatory Health or Safety Standards (30 CFR 75.361 and 75.363)

Supplemental examinations must be made when violations and hazardous conditions are identified during regular examinations. Hazardous conditions that are identified must be posted with a danger sign until the conditions are corrected. Records of these incidents must be made by a certified individual or other authorized individual and must be kept for 1 year.

7-1. Supplemental Examination for Hazardous Conditions (30 CFR 75.361 and 75.363(a))

Under 30 CFR 75.361(a)(1), except for certified persons conducting examinations required by this subpart, within 3 hours before anyone enters an area in which a preshift examination has not been made for that shift, a certified person must examine the area for hazardous conditions and violations of the mandatory health or safety standards referenced in paragraph (a)(2) of this section, determine whether the air is traveling in its proper direction and at its normal volume, and test for methane and oxygen deficiency.

Under 30 CFR 75.361(a)(2) supplemental examinations must include examinations to identify violations of the standards listed below: roof control; ventilation, methane; accumulations of combustible materials and application of rock dust; other safeguards, limited to maintenance of travelways along belt conveyors, off track haulage roadways, and track haulage, track switches, and other components for haulage; guarding moving machine parts; and maintenance of belt conveyor components.

Under 30 CFR 75.361(b), at each working place examined, the person making the supplemental examination must certify by initials, date, and the time, that the examination was made. In areas required to be examined outby a working section, the certified person must certify by initials, date, and the time at enough locations to show that the entire area has been examined.

Under 30 CFR 75.363(a), any hazardous condition found by the mine foreman or equivalent mine official, assistant mine foreman or equivalent mine official, or other certified persons designated by the operator for the purposes of conducting examinations under this subpart D—Ventilation, must be posted with a conspicuous danger sign where anyone entering the areas would pass. A hazardous condition must be corrected immediately or the area must remain posted until the hazardous condition is corrected. If the condition creates an imminent danger, everyone except those persons referred to in section 104(c) of the Mine Act must be withdrawn from the area affected to a safe area until the hazardous condition is corrected. Only persons designated by the operator to correct or evaluate the hazardous condition may enter the posted area. Any violation of a mandatory health or safety standard found during a preshift, supplemental, on-shift, or weekly examination must be corrected.

7-2. Violations of Mandatory Health or Safety Standards (30 CFR 75.363(b))

Under 30 CFR 75.363(b), a record must be made of any hazardous condition and any violation of the nine mandatory health or safety standards found by the mine examiner. This record must be kept in a book maintained for this purpose on the surface at the mine. The record must be made by the completion of the shift on which the hazardous condition or violation of the nine mandatory health or safety standards is found and must include the nature and location of the hazardous condition or violation and the corrective action taken. This record is not required for shifts when no hazardous conditions or violations of the nine mandatory health or safety standards are found.

7-3. Recordkeeping and Retention (30 CFR 75.363(c) and (d))

Under 30 CFR 75.363(c), the record must be made by the certified person who conducted the examination or a person designated by the operator. If made by a person other than the certified person, the certified person must verify the record by initials and date by or at the end of the shift for which the examination was made. Records must be countersigned by the mine foreman or equivalent mine official by the end of the mine foreman's or equivalent mine official's next regularly scheduled working shift. The record must be made in a secure book that is not susceptible to alteration or electronically in a computer system so as to be secure and not susceptible to alteration.

Under 30 CFR 75.363(d), records must be retained at a surface location at the mine for at least 1 year and must be made available for inspection by authorized representatives of the Secretary and the representative of miners.

8. Weekly Examinations (30 CFR 75.364)

Weekly examinations are another component of keeping miners safe and healthy. Examinations of unsealed worked-out areas must include the measurements of methane and oxygen concentrations and other measurements such as air quantity. The results of the examinations must be recorded before the end of the shift during which they were performed. In addition, hazardous conditions examinations must take place weekly, and any hazardous conditions identified must be corrected immediately. If the hazard poses danger, all unnecessary individuals must be removed from the area. Finally, the records of these examinations must be recorded and certified.

8-1. Weekly Examination of Worked-Out Areas (30 CFR 75.364(a) and (h))

Under 30 CFR 75.364(a)(1), at least every 7 days, a certified person must examine unsealed worked-out areas where no pillars have been recovered by traveling to the area of deepest penetration; measuring methane and oxygen concentrations and air quantities and making tests to determine if the air is moving in the proper direction in the area. The locations of measurement points where tests and measurements will be performed must be included in the mine ventilation plan and must be adequate in number and location to assure ventilation and air quality in the area. Air quantity measurements must also be made where the air enters and leaves the worked-out area. An alternative method of evaluating the ventilation of the area may be approved in the ventilation plan.

Under 30 CFR 75.364(h), at the completion of any shift during which a portion of a weekly examination is conducted, a record of the results of each weekly examination, including a record of hazardous conditions and violations of the nine mandatory health or safety standards found during each examination and their locations, the corrective action taken, and the results and location of air and methane measurements, must be made. The results of methane tests must be recorded as the percentage of methane measured by the examiner. The record must be made by the person making the examination or a person designated by the operator. If made by a person other than the examiner, the examiner must verify the record by initials and date by or at the end of the shift for which the examination was made. The record must be countersigned by the mine foreman or equivalent mine official by the end of the mine foreman's or equivalent mine official's next regularly scheduled working shift. The records required by this section must be made in a secure book that is not susceptible to alteration or electronically in a computer system so as to be secure and not susceptible to alteration.

8-2. Weekly Examination of Hazardous Conditions (30 CFR 75.364(b) and (d))

Under 30 CFR 75.364(b), at least every 7 days, an examination for hazardous conditions and violations of the mandatory health or safety standards referenced in paragraph (b)(8) of this section must be made by a certified person designated by the operator at locations listed in paragraphs (b)(1) through (b)(7) of this section.

Under 30 CFR 75.364(d), hazardous conditions must be corrected immediately. If the condition creates an imminent danger, everyone except those persons referred to in section 104(c) of the Mine Act must be withdrawn from the area affected to a safe area until the hazardous condition is corrected. Any violation of the nine mandatory health or safety standards found during a weekly examination must be corrected.

8-3. Certification, Recordkeeping and Retention (30 CFR 75.363(g), (h), and (i))

Under 30 CFR 75.364(g), the person making the weekly examinations must certify by initials, date, and the time that the examination was made. Certifications and times must appear at enough locations to show that the entire area has been examined.

Under 30 CFR 75.364(i), records must be retained at a surface location at the mine for at least 1 year and must be made available for inspection by authorized representatives of the Secretary and the representative of miners.

9. Submission and Approval of Mine Ventilation Plan (30 CFR 75.370 and 75.371)

Mine operators must create a written ventilation plan for each mine to control methane and respirable dust. The written plan must be approved by the district manager along with any revisions. To best protect miners, the ventilation plan must be given to the representative of miners at least 5 days before submitting the plan and allowed feedback from the representative. Finally, the plan must be approved by the district manager and reviewed by MSHA every 6 months.

9-1. Mine Ventilation Plans (30 CFR 75.370(a)(1) and (2))

Under 30 CFR 75.370(a)(1), the mine operator must develop and follow a ventilation plan approved by the district manager. The plan must be designed to control methane and respirable dust and must be suitable to the conditions and mining system at the mine. The ventilation plan must consist of two parts, the plan content as prescribed in 30 CFR 75.371 and the ventilation map with information as prescribed in section 75.372. Only that portion of the map which contains information required under 30 CFR 75.371 will be subject to approval by the district manager.

Under 30 CFR 75.370(a)(2), the proposed ventilation plan and any revision to the must be submitted in writing to the district manager. When revisions to a ventilation plan are proposed, only the revised pages, maps, or sketches of the plan need to be submitted. When required in writing by the district manager, the operator must submit a fully revised plan by consolidating the plan and all revisions in an orderly manner and by deleting all outdated material.

9-2. Mine Ventilation Plan Contents for Diesel-Powered Equipment (30 CFR 75.371)

The contents of mine ventilation plan are described in detail in 30 CFR 75.371. Mine operators utilizing diesel-powered equipment in underground coal mines must submit to the appropriate MSHA District Manager a revised ventilation plan or appropriate amendments to the existing plan, in accordance with requirements in 30 CFR 75.325 (air quality) and 70.1900 (exhaust gas monitoring) for approval.

If diesel-powered equipment is used in underground coal mines, the mine ventilation plan must include the following information:

(1) The minimum quantity of air that will be provided during the installation and removal of mechanized mining equipment, the location where this quantity will be provided, and the ventilation controls that will be used (see 30 CFR 75.371(r)).

(2) Location where the air quantity will be maintained at the section loading point (see 30 CFR 75.371(tt)).

(3) Areas designated by the district manager where measurements of CO and NO2 concentrations will be made (see 30 CFR 75.371(ss)).

(4) Any additional location(s) required by the district manager where a minimum air quantity must be maintained for an individual unit of diesel-powered equipment. (see 30 CFR 75.371(uu)).

(5) The minimum air quantities that will be provided where multiple units of diesel-powered equipment are operated (see 30 CFR 75.371(vv)).

(6) The diesel-powered mining equipment excluded from the calculation under 30 CFR 75.325(g) (see 30 CFR 75.371(ww)).

(7) Action levels higher than the 50 percent level specified by 30 CFR 70.1900(c) (see 30 CFR 75.371(xx)).

9-3. Miner Notification; Copies of Ventilation Plan Revisions 30 CFR 75.370

Under 30 CFR 75.370(a)(3), the mine operator must notify the representative of miners at least 5 days prior to submission of a mine ventilation plan and any revision to a mine ventilation plan. If requested, the mine operator must provide a copy to the representative of miners at the time of notification. In the event of a situation requiring immediate action on a plan revision, notification of the revision must be given, and if requested, a copy of the revision must be provided, to the representative of miners by the operator at the time of submittal. A copy of the proposed ventilation plan, and a copy of any proposed revision, submitted for approval must be made available for inspection by the representative of miners. A copy of the proposed ventilation plan, and a copy of any proposed revision, submitted for approval must be posted on the mine bulletin board at the time of submittal. The proposed plan or proposed revision must remain posted until it is approved, withdrawn or denied.

Under 30 CFR 75.370(b), following receipt of the proposed plan or proposed revision, the representative of miners may submit timely comments to the district manager, in writing, for consideration during the review process. A copy of these comments must also be provided to the operator by the district manager upon request.

Under 30 CFR 75.370(c), the district manager will notify the operator in writing of the approval or denial of approval of a proposed ventilation plan or proposed revision. A copy of this notification will be sent to the representative of miners by the district manager. If the district manager denies approval of a proposed plan or revision, the deficiencies of the plan or revision must be specified in writing and the operator will be provided an opportunity to discuss the deficiencies with the district manager.

Under 30 CFR 75.370(f), the approved ventilation plan and any revisions must be:

(i) Provided upon request to the representative of miners by the operator following notification of approval;

(ii) Made available for inspection by the representative of miners; and

(iii) Posted on the mine bulletin board within 1 working day following notification of approval. The approved plan and revisions must remain posted on the bulletin board for the period that they are in effect.

9-4. Ventilation Plan Reviewed by MSHA (30 CFR 75.370(g))

Under 30 CFR 75.370(g), the ventilation plan for each mine must be reviewed every 6 months by an authorized representative of the Secretary to assure that it is suitable to current conditions in the mine.

10. Mechanical Escape Facilities (30 CFR 75.382)

In order to ensure that mechanical escape facilities are operational, they must be equipped with certain controls, examined weekly during the daily examination (under 30 CFR 75.1400-3) by a certified person and documentation of that certification must be recorded.

Under 30 CFR 75.382(a), (b), and (c), mechanical escape facilities must be provided with overspeed, overwind, and automatic stop controls. Every mechanical escape facility with a platform, cage, or other device must be equipped with brakes that can stop the fully loaded platform, cage, or other device. Mechanical escape facilities, including automatic elevators, must be examined weekly. The weekly examination of this equipment may be conducted at the same time as a daily examination required by 30 CFR 75.1400-3. The weekly examination must include an examination of the headgear, connections, links and chains, overspeed and overwind controls, automatic stop controls, and other facilities. At least once each week, the hoist must be run through one complete cycle of operation to determine that it is operating properly.

Under 30 CFR 75.382(g), the person making the examination as required by paragraph (c) of this section must certify by initials, date, and the time that the examination was made. Certifications must be made at or near the facility examined.

II. Desired Focus of Comments

MSHA is soliciting comments concerning the proposed information collection related to Ventilation Plans, Tests, and Examinations in Underground Coal Mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The information collection request will be available on https://www.regulations.gov. MSHA cautions the commenter against providing any information in the submission that should not be publicly disclosed. Full comments, including personal information provided, will be made available on https://www.regulations.gov and https://www.reginfo.gov.

The public may also examine publicly available documents at DOL-MSHA, Office of Standards, Regulations and Variances, 201 12th Street South, 4th Floor West, Arlington, VA 22202-5452. Before visiting MSHA in person, call 202-693-9455 to make an appointment. Questions about the information collection requirements may be directed to the person listed in the FOR FURTHER INFORMATION CONTACT section of this notice.

III. Current Actions

This information collection request concerns provisions for Ventilation Plans, Tests, and Examinations in Underground Coal Mines. MSHA has updated the data with respect to the number of respondents, responses, time burden, and burden costs supporting this information collection request from the previous information collection request.

Type of Review: Extension, without change, of a currently approved collection.

Agency: Mine Safety and Health Administration.

OMB Number: 1219-0088.

Affected Public: Business or other for-profit.

Number of Annual Respondents: 225.

Frequency: On occasion.

Number of Annual Responses: 1,910,978.

Annual Time Burden: 150,674 hours.

Annual Other Burden Costs: $69,865.

Comments submitted in response to this notice will be summarized and included in the request for Office of Management and Budget approval of the proposed information collection request; they will become a matter of public record and be available at https://www.reginfo.gov.

Song-ae Aromie Noe,
Certifying Officer, Mine Safety and Health Administration.

[FR Doc. 2024-23373 Filed 10-8-24; 8:45 am]

BILLING CODE 4520-43-P